DEPARTMENT OF HOMELAND SECURITY

Coast Guard

33 CFR Parts 3, 50, 51, 52, 62, 67, 72, 80, 82, 83, 84, 90, 96, 100, 101, 110, 117, 150, 151, 155, 156, 161, 162, 164, 165, 177, and 183

[Docket No. USCG-2015-0433]

RIN-1625-AC25

Navigation and Navigable Waters; Technical, Organizational, and Conforming Amendments

AGENCY: Coast Guard, DHS.

ACTION: Final rule.

SUMMARY: This final rule makes non-substantive technical, organizational, and conforming amendments to existing regulations throughout Title 33 of the Code of Federal Regulations. These changes provide the public with more accurate and current regulatory information, but they do not change the impact on the public of any Coast Guard regulation.

DATES: This final rule is effective July 27, 2015.

ADDRESSES: Documents mentioned in this preamble as being available in the docket are part of docket USCG-2015-0433. To view documents mentioned in this preamble, go to www.regulations.gov, type the docket number in the “SEARCH” box, and click “Search.” If you do not have access to the Internet, you may view the docket online by visiting the Docket Management Facility in room W12-140 of the ground floor of the Department of Transportation West Building, 1200 New Jersey Avenue SE., Washington, DC 20590, between 9 a.m. and 5 p.m., Monday through Friday, except Federal holidays.

FOR FURTHER INFORMATION CONTACT: If you have questions on this final rule, call or email Mr. Paul Crissy, Coast Guard; telephone 202-372-1093, email Paul.H.Crissy@uscg.mil. If you have questions on viewing the docket, call Ms. Cheryl Collins, Program Manager, Docket Operations, telephone 202-366-9826.

SUPPLEMENTARY INFORMATION:

Table of Contents for Preamble

I. Abbreviations

II. Regulatory History

III. Basis and Purpose

IV. Discussion of the Rule

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

CFR—Code of Federal Regulations

DHS—Department of Homeland Security

E.O.—Executive Order

FR—Federal Register

NOAA—National Oceanic and Atmospheric Administration

OMB—Office of Management and Budget

Pub. L.—Public Law

§—Section symbol

U.S.C.—United States Code

II. Regulatory History

This rule is subject to several exceptions from the regulatory procedure requirements of 5 U.S.C. 553. Before issuing this rule, the Coast Guard did not provide a notice of proposed rulemaking, because it is not required to do so because this rule involves rules of agency organization, procedure, or practice.¹ Moreover, notice and comment is unnecessary because the rule does not change the impact on the public of any Coast Guard regulation, but only makes non-substantive organizational and conforming amendments. For that reason, the Coast Guard finds it has good cause to issue this rule without first giving the public an opportunity to comment,² and to make the rule effective less than 30 days after publication in the Federal Register.³

¹ 5 U.S.C. 553(b)(A).

² 5 U.S.C. 553(b)(B).

³ 5 U.S.C. 553(d)(3).

III. Basis and Purpose

The legal basis of this rule is found in 5 U.S.C. 552(a) and 553; 14 U.S.C. 2(3) and 631-633; 33 U.S.C. 471 and 499; and Department of Homeland Security Delegation No. 0170.1.

The purpose of this rule is to provide the public with more accurate and current regulatory information by making technical, organizational, and conforming amendments to existing regulations throughout Title 33 of the Code of Federal Regulations (33 CFR). This rule does not change the impact on the public of any Coast Guard regulation.

IV. Discussion of the Rule

Each year, the Coast Guard issues technical, organizational, and conforming amendments to existing regulations in 33 CFR. These annual “technical amendments” provide the public with more accurate and current regulatory information, but do not change the impact on the public of any Coast Guard regulation.

The rule makes changes in the following sections of 33 CFR:

Sections 3.35-1, 3.35-35, 3.40-1(b), 3.40-10: Shift several Seventh and Eighth Coast Guard District boundaries so that they coincide with existing county political boundaries.

Part 50 authority line: Change from “Sec. 8, 18 Stat. 127, as amended, sec. 302, 58 Stat. 287, as amended; 14 U.S.C. 92, 38 U.S.C. 693i” to “Sec. 10 U.S.C. 1554; 14 U.S.C. 92, 633; Department of Homeland Security Delegations No. 0160.1(II)(B)(1), 0170.1(II)(23)” to conform to obsolete statutory references to current equivalents. Specifically, 18 Stat. 127 was superseded by 14 U.S.C. 92 and 633 in 1949. Section 302 of 58 Stat. 287 was codified at 38 U.S.C. 693i; that section was later re-enacted as 10 U.S.C. 1553 and 1554 in Public Law 85-857 in 1958.

Sections 50.1, 50.3, 50.5, 50.6: Change “officer” to “member or former member” to reflect change to 10 U.S.C. 1554 authorization for Retiring Review Board.

Part 51 authority line: Change from “10 U.S.C. 1553; Pub. L. 107-296, 116 Stat. 2135” to “10 U.S.C. 1553; 14 U.S.C. 92, 633; Department of Homeland Security Delegations No. 0160.1 II(B)(1), 0170.1(II)(23),” to omit public law that confers no rulemaking authority and to add 14 U.S.C. 92, which does confer that authority.

Part 52 authority line: Add the Secretary's regulatory authority under 14 U.S.C. 92 and 633.

Section 62.21(c): Reflect discontinuation of print publication of Light List, United States Coast Pilot, Local Notices to Mariners, and Notice to Mariners, in favor of electronic-only publication.

Section 67.10-25(a): Update Coast Guard address information.

Sections 72.01-5, 72.01-25(c), 72.01-40, 72.05-1(a), 72.05-5, 72.05-10: Reflect discontinuation of print publication of Local Notices to Mariners, Notice to Mariners, in favor of electronic-only publication, and indicate in § 72.05-1 that Volume V of the Light List is now published annually rather than biennially.

Sections 80.155, 80.160, 80.165: Add geographical coordinates to the physical description of demarcation lines already in the regulations. The location of the demarcation lines is not affected.

Sections 80.170, 80.501, 80.502: Redesignate sections to indicate that the area from Sandy Hook to Toms River, NJ, is within the Fifth, and not the First, Coast Guard District geographical area of responsibility (First District sections are designated § 80.101 et seq., while Fifth District sections are designated § 80.501 et seq.), and make wording changes to conform to Fifth District practice.

Section 80.748(f): Change “shoreland” to “shoreline” to make consistent with Coast Guard terminology.

Section 82.5: Change “33 CFR 88.13” to “33 CFR 83.30(h)-(1)” to conform to regulatory redesignation by 2014 final rule (79 FR 37898; Jul. 2, 2014).

Section 83.09, 83.19(d), 83.24(h), 83.29(a)(iii), 83.34(d), 83.37: Minor rewordings and terminology revisions to conform to International Regulations for Preventing Collisions at Sea (COLREGS).

Section 84.02(f)(ii): Change “§ 84.03(d)” to “§ 84.03(c),” the correct location of the cited requirements, which concern situations when two all-round masthead lights are required. Two all-round masthead lights are discussed in § 84.03(c) and not § 84.03(d), which only pertains to vessels with one masthead light.

Section 90.5: Change “33 CFR 88.13” to “33 CFR 83.30(h) through (1)” to conform to regulatory redesignation.

Part 96 authority line: Delete references to obsolete Department of Transportation delegations of regulatory authority.

Section 100.1104, 100.1105: Reflect discontinuation of print publication of Local Notices to Mariners, in favor of electronic-only publication.

Section 101.514(e): Remove paragraph that is obsolete because it incorporated a self-termination date of April 15, 2009.

Section 110.215(b)(3): Change “33 CFR 204.195” to “33 CFR 334.930” to correct cross-reference.

Sections 117.591(e), 117.605(b), (c), 117.647(a), 117.855(c): Reflect change in bridge owner.

Section 117.1081: Update telephone number.

Section 150.940: Remove and redesignate material as the referenced deepwater port is no longer in existence.

Section 151.1512: Change “In order to” to “To”; “U.S. waters” to “waters of the United States” to conform to Coast Guard terminology; and in paragraph (b), in the phrase “approved alternative ballast water management method per § 151.1510(a)(1) and (4),” remove “alternative.” Sections 1510(a) and 1512 (a) make it clear that § 1510(a)(1) and (a)(4) are among the options provided by § 1510(a), only one of which is to be selected by a vessel's master.

Section 151.2035(a): Change the permitted alternative “to ballast with water from a U.S. public water system” to “ballast exclusively with water from a U.S. public water system,” for clarification. This is a non-substantive, clarifying change because § 151.2025(a)(2) requires that the use of water from a U.S. public water system be exclusive.

Section 151.2036: Change “that despite all efforts to meet the ballast water discharge standard requirements in § 151.2030 of this subpart, compliance is not possible” to “that, despite all efforts, compliance with the requirement under § 151.2025 is not possible”. The change corrects the cross-reference, and reflects the fact that under existing regulations the master, owner, operator, agent, or person in charge of a vessel has several ballast water management methods by which he may achieve compliance with the ballast water discharge standard set forth in 33 CFR 151.2030.

Section 155.480(b)(2): Revise internal cross-references to conform to regulatory redesignations made by a 2013 rule (78 FR 42642, Jul. 16, 2013), which did not affect the meaning of the cross-references.

Section 156.330(b): Change name of referenced publication to conform to name approved for incorporation by reference in 33 CFR 156.111.

Section 161.18(a): In table, remove and add punctuation for grammatical reasons.

Section 161.60(c): Specify that a latitude coordinate refers to north latitude.

Section 162.65(b), 162.75(b): Substitute “Inland Navigation Rules (33 CFR Subchapter E)” for references to Coast Guard Commandant Instruction Manual COMDTINST M16672.2D. The Manual reiterated the language of international navigational safety regulations (COLREGS) ⁴ and the Inland Navigation Rules without change. It has been canceled in favor of referencing, in our regulations, the relevant international or inland rules. For §§ 162.65(b), 162.75(b), the Inland Navigation Rules (33 CFR Subchapter E) provide the relevant rules.

⁴ Note on COLREGS: Several amendments to parts 162 and 165 refer to the COLREGS (The Convention on the International Regulations for Preventing Collisions at Sea, adopted by the forerunner to the International Maritime Organization in 1972 and replacing a 1960 edition). The COLREGS (including its rules and annexes) were incorporated into U.S. law and entered into force in the U.S. on July 15, 1977, as proclaimed by the President in accordance with the International Navigational Rules Act of 1977, 33 U.S.C. 1602 (Pub. L. 95-75, Jul. 27, 1977, 91 Stat. 308). In accordance with § 33 U.S.C. 1602(c), the President is also authorized to proclaim any amendments to the COLREGS. The text of the amendment, with its effective date as proclaimed by the President, is then published in the Federal Register. On its effective date, the amendment enters into force in the U.S. and has effect as if enacted by statute.

Section 162.90(b)(6): Remove “the Pilot Rules for Inland Waters” and substitute reference to Inland Navigation Rules, which now include the pilot rules.

Section 164.03(e)(3): Remove an obsolete “incorporation by reference” document.

Section 164.33(c), 164.72(b)(2)(ii)(B): Change “National Imagery and Mapping Agency” to its new agency name of “National Geospatial-Intelligence Agency”.

Section 165.T01-0174(c)(9), 165.T01-0214(b)(6), 165.T01-0215(b)(5), 165.T01-0329(b)(7), 165.T01-0554(b)(5), 165.T01-0824(b)(7), 165.T01-0876(c)(7): Change “Rules of the Road (33 CFR part 84—Subchapter E, inland navigational rules)” to “Inland Navigation Rules (33 CFR subchapter E)” to correct current reference.

Section 165.T01-1059(c)(1): Change “Navigation Rules” to “Inland Navigation Rules (33 CFR subchapter E)” to correct current reference.

Section 165.T01-1063(b)(5): Change “Rules of the Road, as codified in 33 CFR subchapter E, Inland Navigational Rules” to “Inland Navigation Rules (33 CFR subchapter E)” to correct current reference.

Section 165.100(d): In (d)(2), change references to several buoys and other aids to navigation to give their current names or Light List numbers, or to indicate their discontinuance; substitute reference to current regulatory location of COLREGS and Inland Navigation Rules for their former statutory locations.

Section 165.122: In (b)(2) change “Conimicut Point Light” to its current name of “Conimicut Light”; in (b)(6) change “part 83” to “subchapter E” to correct current reference.

Section 165.153(d)(9): Change “navigation rules” to “Navigation Rules (COLREGS and their associated annexes and the Inland Navigation Rules (33 CFR Subchapter E)” to correct current reference.

Section 165.156(a): Change “Silver Point breakwater buoy” to its current name of “East Rockaway Inlet Breakwater Light”.

Section 165.160: In table, change “Arthur Kill Channel Buoy” to its current name of “Arthur Kill Channel Lighted Buoy”.

Section 165.163(a)(5): Change “the COLREGS Demarcation line at Ambrose Channel Entrance Lighted Bell Buoy 2” to the more accurate location and current name of “the COLREGS Demarcation line in the vicinity of Ambrose Channel Entrance Lighted Bell Buoy 6”.

Section 165.166(a): Change “Liberty Island Lighted Gong Buoy 29” to its current name of “Liberty Island Lighted Gong Buoy 33”.

Section 165.170: Remove obsolete safety zone, added by rule published April 14, 2014 (79 FR 20792) and intended to protect the public “while military munitions are rendered safe, detonated, and/or removed from the area.” The U.S. Army Corps of Engineers has confirmed that removal has been completed.

Section 165.173: In lines 6.1 and 8.1 of Table 165.173, insert inadvertently omitted information that specific event dates may be announced in the Local Notice to Mariners, and conform the punctuation in line 5.1 to match the punctuation inserted in lines 6.0 and 8.0.

Section 165.511(c)(1): Change “accordance with the Navigation Rules as seen in 33 CFR chapter I, subchapters D and E” to “accordance with the Navigation Rules (COLREGS and their associated Annexes and Inland Navigation Rules (33 CFR Subchapter E))” to correct current reference.

Section 165.514(a): Change “Bogue Sound—New River Daybeacon 70” to its current name of “Bogue Sound—New River Light 70”.

Section 165.518(c)(4): Change “Navigation Rules in 33 CFR chapter I, subparts D and E” to “Navigation Rules (COLREGS and their associated Annexes and Inland Navigation Rules (33 CFR Subchapter E))” to correct current reference.

Section 165.708(a)(1), 165.753(a): Change coordinate and landmark descriptions to reflect buoy removals.

Section 165.753(d): Change “either the International Regulations for Preventing Collisions at Sea, 1972 (72 COLREGS) or the Inland Navigation Rules” to “the Navigational Rules (COLREGS and their associated Annexes and Inland Navigation Rules (33 CFR Subchapter E))” to correct current reference.

Section 165.765(b): Change “33 U.S.C. 2001 et seq.” to “(33 CFR Subchapter E)” because the statute has been repealed and the referenced rules are now in regulations.

Sections 165.813, 165.814: Revise to incorporate changes in buoy names and positions.

Section 165.1152(e)(5): Change “Light 2” to its current name of “Light 8”.

Section 165.1156(b)(3): Change “Navigation Rules as defined in 33 CFR chapter I, subchapters D and E” to “Navigation Rules (COLREGS and their associated Annexes and Inland Navigation Rules (33 CFR Subchapter E))” to correct current reference.

Section 165.1181(d)(3): Change “33 U.S.C. 2009” to “33 CFR Subchapter E” because the referenced rules are now in regulations, not statutes.

Section 165.1182(a)(1), 165.1183(b)(1): Change “buoys 7 and 8” to their current names of “Lighted Bell Buoy 7 and San Francisco Main Ship Channel Lighted Whistle Buoy 8”.

Section 165.T13-239(a)(3): Change “33 CFR part 83” to “33 CFR Subchapter E” to correct current reference.

Section 165.1321(c)(1): Change “to the Commencement Bay Directional Light (light list number 17159)” to “approximate position 47°16′49″ N., 122°24′52″ W.” to reflect discontinuance of the Directional Light.

Section 165.1407: Revise (a)(1) and (a)(3) to reflect several name changes for referenced aids to navigation and revise (a)(4) to change a degree symbol to a minutes symbol.

Section 165.1702(a): Revise coordinates to reflect discontinuance or minor relocation of referenced aids to navigation.

Part 177 authority line: Add 46 U.S.C. 4308 to more accurately reflect the Coast Guard's authority.

Section 183.803: Change “Commandant Instruction 16672.2 series” to “COLREGS and their associated Annexes and Inland Navigation Rules (33CFR Subchapter E)”; change “National Imagery and Mapping Agency” to “National Geospatial-Intelligence Agency” to correct current reference and agency name.

V. Regulatory Analyses

We developed this rule after considering numerous statutes and executive orders (E.O.s) related to rulemaking. Below we summarize our analyses based on these statutes or E.O.s.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. The provisions of this final rule are technical and non-substantive; they will have no substantive effect on the public and will impose no additional costs. This final rule is not a significant regulatory action under section 3(f) of E.O. 12866 as supplemented by E.O. 13563, and does not require an assessment of potential costs and benefits under section 6(a)(3) of E.O. 12866. The Office of Management and Budget (OMB) has not reviewed it under E.O. 12866.

B. Small Entities

Under the Regulatory Flexibility Act (5 U.S.C. 601-612), rules exempt from the notice and comment requirements of the Administrative Procedure Act are not required to examine the impact of the rule on small entities. Nevertheless, we have considered whether this rule would have a significant economic impact on a substantial number of small entities. The term “small entities” comprises small businesses, not-for-profit organizations that are independently owned and operated and are not dominant in their fields, and governmental jurisdictions with populations of less than 50,000.

There is no cost to this final rule, and we do not expect it to have an impact on small entities because the provisions of this rule are technical and non-substantive. It will have no substantive effect on the public and will impose no additional costs. Therefore, the Coast Guard certifies under 5 U.S.C. 605(b) that this final rule will not have a significant economic impact on a substantial number of small entities.

C. Assistance for Small Entities

Under section 213(a) of the Small Business Regulatory Enforcement Fairness Act of 1996 (Pub. L. 104-121), we want to assist small entities in understanding this rule so that they can better evaluate its effects on them and participate in the rulemaking. If the rule would affect your small business, organization, or governmental jurisdiction and you have questions concerning its provisions or options for compliance, please consult Mr. Paul Crissy by phone at 202-372-1093 or via email at Paul.H.Crissy@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995 (44 U.S.C. 3501-3520).

E. Federalism

A rule has implications for federalism under E.O. 13132 (“Federalism”) if it has a substantial direct effect on the States, on the relationship between the national government and the States, or on the distribution of power and responsibilities among the various levels of government. We have analyzed this rule under that order and have determined that it is consistent with the fundamental federalism principles and preemption requirements described in E.O. 13132.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any 1 year. Though this rule will not result in such an expenditure, we do discuss the effects of this rule elsewhere in this preamble.

G. Taking of Private Property

This final rule will not cause a taking of private property or otherwise have taking implications under E.O. 12630 (“Governmental Actions and Interference with Constitutionally Protected Property Rights”).

H. Civil Justice Reform

This final rule meets applicable standards in sections 3(a) and 3(b)(2) of E.O. 12988 (“Civil Justice Reform”), to minimize litigation, eliminate ambiguity, and reduce burden.

I. Protection of Children

We have analyzed this final rule under E.O. 13045 (“Protection of Children from Environmental Health Risks and Safety Risks”). This final rule is not an economically significant rule and would not create an environmental risk to health or risk to safety that might disproportionately affect children.

J. Indian Tribal Governments

This final rule does not have tribal implications under E.O. 13175 (“Consultation and Coordination with Indian Tribal Governments”), because it would not have a substantial direct effect on one or more Indian tribes, on the relationship between the Federal Government and Indian tribes, or on the distribution of power and responsibilities between the Federal Government and Indian tribes.

K. Energy Effects

We have analyzed this final rule under E.O. 13211 (“Actions Concerning Regulations That Significantly Affect Energy Supply, Distribution, or Use”). We have determined that it is not a “significant energy action” under that order because it is not a “significant regulatory action” under E.O. 12866 and is not likely to have a significant adverse effect on the supply, distribution, or use of energy. The Administrator of OMB's Office of Information and Regulatory Affairs has not designated it as a significant energy action. Therefore, it does not require a Statement of Energy Effects under E.O. 13211.

L. Technical Standards

The National Technology Transfer and Advancement Act (15 U.S.C. 272 Note) directs agencies to use voluntary consensus standards in their regulatory activities unless the agency provides Congress, through the OMB, with an explanation of why using these standards would be inconsistent with applicable law or otherwise impractical. Voluntary consensus standards are technical standards (e.g., specifications of materials, performance, design, or operation; test methods; sampling procedures; and related management systems practices) that are developed or adopted by voluntary consensus standards bodies.

This final rule does not use technical standards. Therefore, we did not consider the use of voluntary consensus standards.

M. Environment

We have analyzed this rule under Department of Homeland Security Management Directive 023-01 and Commandant Instruction M16475.lD, which guide the Coast Guard in complying with the National Environmental Policy Act of 1969 (42 U.S.C. 4321-4370f), and have concluded that this action is one of a category of actions that do not individually or cumulatively have a significant effect on the human environment. This rule is categorically excluded under section 2.B.2 and figure 2-1, paragraphs (34)(a) and (b) of the Instruction. This final rule involves regulations that are editorial or procedural, or that concern internal agency functions or organizations. An environmental analysis checklist and a categorical exclusion determination are available in the docket for this final rule where indicated under ADDRESSES.

List of Subjects

33 CFR Part 3

Organization and functions (Government agencies).

33 CFR Part 50

Administrative practice and procedure, Disability benefits, Military personnel, Retirement.

33 CFR Part 51

Administrative practice and procedure, Military personnel.

33 CFR Part 52

Administrative practice and procedure, Archives and records, Military personnel.

33 CFR Part 62

Navigation (water).

33 CFR Part 67

Continental shelf, Navigation (water), Reporting and recordkeeping requirements.

33 CFR Part 72

Government publications, Navigation (water).

33 CFR Part 80

Navigation (water), Treaties, Waterways.

33 CFR Part 82

Navigation (water), Treaties.

33 CFR Part 83

Fishing vessels, Navigation (water), Waterways.

33 CFR Part 84

Navigation (water), Waterways.

33 CFR Part 90

Navigation (water), Waterways.

33 CFR Part 96

Administrative practice and procedure, Marine safety, Reporting and recordkeeping requirements, Vessels.

33 CFR Part 100

Marine safety, Navigation (water), Reporting and recordkeeping requirements, Waterways.

33 CFR Part 101

Harbors, Maritime security, Reporting and recordkeeping requirements, Security measures, Vessels, Waterways.

33 CFR Part 110

Anchorage grounds.

33 CFR Part 117

Bridges.

33 CFR Part 150

Harbors, Marine safety, Navigation (water), Occupational safety and health, Oil pollution, Reporting and recordkeeping requirements.

33 CFR Part 151

Administrative practice and procedure, Oil pollution, Penalties, Reporting and recordkeeping requirements, Water pollution control.

33 CFR Part 155

Alaska, Hazardous substances, Oil pollution, Reporting and recordkeeping requirements.

33 CFR Part 156

Hazardous substances, Oil pollution, Reporting and recordkeeping requirements, Water pollution control.

33 CFR Part 161

Harbors, Navigation (water), Reporting and recordkeeping requirements, Vessels, Waterways.

33 CFR Part 162

Navigation (water), Waterways.

33 CFR Part 164

Marine safety, Navigation (water), Reporting and recordkeeping requirements, Waterways.

33 CFR Part 165

Harbors, Marine safety, Navigation (water), Reporting and recordkeeping requirements, Security measures, Waterways.

33 CFR Parts 177 and 183.

Marine safety.

For the reasons discussed in the preamble, the Coast Guard amends 33 CFR parts 3, 50, 51, 52, 62, 67, 72, 80, 82, 83, 84, 90, 96, 100, 101, 110, 117, 150, 151, 155, 156, 161, 162, 164, 165, 177, and 183 as follows:

Title 33—Navigation and Navigable Waters

PART 3—COAST GUARD AREAS, DISTRICTS, SECTORS, MARINE INSPECTION ZONES, AND CAPTAIN OF THE PORT ZONES

1. The authority citation for part 3 continues to read as follows:

Authority: 14 U.S.C. 92 & 93; Pub. L. 107-296, 116 Stat. 2135; Department of Homeland Security Delegation No. 0170.1, para. 2(23).

§ 3.35-1 [Amended]

2. In § 3.35-1(b), after the text “part of Georgia and Florida west of a line”, remove the text “from the intersection of the Florida coast with Longitude 83°50′ W. (30°00′ N., 83°50′ W.) due north to a position 30°15′00″ N., 83°50′ W.″ and add, in its place, the text “starting at the Florida coast at longitude 084°04′34″ W. (30° 05′45″ N., 084°04′34″ W.) proceeding northerly along the boundary between Wakulla and Jefferson counties to position 30°15′00″ N., 084°04′33″ W.”.

§ 3.35-35 [Amended]

3. In § 3.35-35, after the text “Port Zone start at the Florida coast at”, remove the text “latitude 29°59′14″ N., longitude 83°50′00″ W., proceeding north to latitude 30°15′00″ N., longitude 83°50′00″ W.” and add, in its place, the text “30°05′45″ N., 084°04′34″ W., proceeding northerly along the boundary between Wakulla and Jefferson counties to position 30°15′00″ N., 084°04′33″ W.”; and after the text “thence northeast to”, add the text “position 29°23′09″ N., 084°04′34″ W.; thence due north”.

§ 3.40-1 [Amended]

4. Amend § 3.40-1(b) as follows:

a. After the text “Florida and Georgia west of a line starting at the Florida coast at”, remove the text “83°50′ W. longitude; thence northerly to 30°15′ N. latitude, 83°50′ W. longitude” and add, in its place, the text “longitude 084°04′34″ W. (30°05′45″ N., 084°04′34″ W.) proceeding northerly along the boundary between Wakulla and Jefferson counties to position 30°15′00″ N., 084°04′33″ W.”; and

b. After the text “Gulf of Mexico area west of a line”, remove the text “bearing 199 T. from the intersection of the Florida coast at 83°50′ W. longitude (the coastal end of the Seventh and Eighth Coast Guard District land boundary.)” and add, in its place, the text “proceeding due south from the intersection of the Florida coast at longitude 084°04′34″ W. (30°15′45″ N., 084°04′34″ W.) to position 29°23′09″ N., 084°04′34″ W., then bearing 199°T to the extent of the EEZ.”.

§ 3.40-10 [Amended]

5. Amend § 3.40-10 as follows:

a. After the text “Captain of the Port Zone start near the Florida coast at latitude”, remove the text “29°59′ 14″ N., longitude 083°0050′00″ W., proceeding north to latitude 30°15′00″ N., longitude 83°0050′00″ W” and add, in its place, the text “30°05′45″ N., 084°04′34″ W. proceeding northerly along the boundary between Wakulla and Jefferson counties to position 30°15′00″ N., 084°04′33″ W.”; and

b. After the text “EEZ to the intersection with a line bearing 199°T from”, remove the text “the intersection of the Florida coast at longitude 83°50′00” W.; thence northeast along a line bearing 199°T from the Florida coast at longitude 83°50′00″ W. to the coast” and add, in its place, the text “with a line bearing 199°T from 29°23′09″ N., 084°04′34″ W. to the EEZ (24°48′13″ N., 085°50′05″ W.); thence northeast to 29°23′09″ N., 084°04′34″ W.”; thence due north to the Florida coast at longitude 084°04′34″ W. (30°05′45″ N., 084°04′34″ W.)”.

PART 50—COAST GUARD RETIRING REVIEW BOARD

6. The authority citation for part 50 is revised to read as follows:

Authority: Sec. 10 U.S.C. 1554; 14 U.S.C. 92, 633; Department of Homeland Security Delegations No. 0160.1(II)(B)(1), 0170.1(II)(23).

§ 50.1 [Amended]

7. In § 50.1(b), after the text “at the request of any Coast Guard”, remove the text “officer” and add, in its place, the text “member or former member”.

§ 50.3 [Amended]

8. In § 50.3(a), after the text “Any”, remove the text “officer” and add, in its place, the text “member or former member”.

9. Revise § 50.5(b)(6) to read as follows:

§ 50.5 Action by the Board.

* * * * *

(b) * * *

(6) In the case of a member or former member who was in the Reserve or who served under a temporary appointment, when the physical disability was incurred.

* * * * *

§ 50.6 [Amended]

10. In § 50.6, remove the text “officer” and add, in its place, the text “member or former member”.

PART 51—COAST GUARD DISCHARGE REVIEW BOARD

11. The authority citation for part 51 is revised to read as follows:

Authority: 10 U.S.C. 1553; 14 U.S.C. 92, 633; Department of Homeland Security Delegations No. 0160.1(II)(B)(1), 0170.1(II)(23).

PART 52—BOARD FOR CORRECTION OF MILITARY RECORDS OF THE COAST GUARD

12. The authority citation for part 52 is revised to read as follows:

Authority: 10 U.S.C. 1552; 14 U.S.C. 92, 633; Department of Homeland Security Delegations No. 0160.1(II)(B)(1), 0170.1(II)(23).

PART 62—UNITED STATES AIDS TO NAVIGATION SYSTEM

13. The authority citation for part 62 continues to read as follows:

Authority: 14 U.S.C. 85; 33 U.S.C. 1222, 1233; 43 U.S.C. 1333; Department of Homeland Security Delegation No. 0170.1.

14. In § 62.21, revise paragraphs (c)(1) through (c)(4) to read as follows:

§ 62.21 General.

* * * * *

(c) * * *

(1) The Light List, published by the Coast Guard and available for viewing on the Coast Guard Navigation Center Web site at http://www.navcen.uscg.gov lists federal and private aids to navigation. It includes all major Federal aids to navigation and those private aids to navigation that have been deemed to be important to general navigation, and includes a physical description of these aids and their locations.

(2) The United States Coast Pilot, published by the National Ocean Service and available from NOAA Certified Printer Partners listed at http://www.nauticalcharts.noaa.gov/mcd/NOAAChartViewer.html. Free on-line versions and weekly updates supplement the information shown on nautical charts, and are available directly from NOAA at http://www.nauticalcharts.noaa.gov/nsd/cpdownload.htm. Subjects such as local navigation regulations, channel and anchorage peculiarities, dangers, climatalogical data, routes, and port facilities are covered.

(3) Local Notices to Mariners are published by local Coast Guard District Commanders. Persons may view Local Notices to Mariners on the Coast Guard Navigation Center Web site at http://www.navcen.uscg.gov. Changes to aids to navigation, reported dangers, scheduled construction or other disruptions, chart corrections and similar useful marine information is made available through this publication.

(4) The Notice to Mariners is a national publication, similar to the Local Notice to Mariners, published by the National Geospatial-Intelligence Agency. The notices may be viewed on the National Geospatial-Intelligence Agency's Web site at http://msi.nga.mil/NGAPortal/MSI.portal. This publication provides oceangoing vessels significant information on national and international navigation and safety.

* * * * *

PART 67—AIDS TO NAVIGATION ON ARTIFICIAL ISLANDS AND FIXED STRUCTURES

15. The authority citation for part 67 continues to read as follows:

Authority: 14 U.S.C. 85, 633; 43 U.S.C. 1333; Department of Homeland Security Delegation No. 0170.1.

§ 67.10-25 [Amended]

16. In § 67.10-25(a), after the text “Direct a written request to the”, remove the text “Commandant (CG-NAV), Attn: Navigation System Division” and add, in its place, the text “Aids to Navigation Division (CG-NAV-1), U.S. Coast Guard Stop 7418, 2703 Martin Luther King Jr. Ave. SE., Washington DC 20593-7418”.

PART 72—MARINE INFORMATION

17. The authority citation for part 72 continues to read as follows:

Authority: 14 U.S.C. 85, 633; 43 U.S.C. 1333; Department of Homeland Security Delegation No. 0170.1.

18. In § 72.01-5, revise paragraphs (b) and (c) to read as follows:

§ 72.01-5 Local Notice to Mariners.

* * * * *

(b) “Local Notices to Mariners” are published weekly by each Coast Guard district or more often if there is a need to notify mariners of local waterway information. Local Notices to Mariners are available for viewing on the Coast Guard Navigation Center Web site at http://www.navcen.uscg.gov/?pageName=lnmMain.

(c) Any person may apply to the Coast Guard Navigation Center to receive automatic notices via email when new editions of the Local Notices to Mariners are available. Apply at http://www.navcen.uscg.gov/?pageName=listServerForm.

§ 72.01-25 [Amended]

19. In § 72.01-25(c), remove the text “an authorized agent listed at http://aeronav.faa.gov/agents.asp or authorized Print-on-Demand agent listed at http://www.nauticalcharts.noaa.gov/staff/charts.htm. Free on-line versions, as well as weekly updates, are available directly from NOAA at http://www.nauticalcharts.noaa.gov/nsd/cpdownload.htm” and add, in its place, the text “NOAA Certified Printer Partners listed at http://www.nauticalcharts.noaa.gov/staff/print_agents.html#mapTabs-2.”

20. Revise § 72.01-40 to read as follows:

§ 72.01-40 Single copies.

Single copies of the “Notice to Mariners” described in § 72.01-10 may be viewed at the National Geospatial-Intelligence Agency's Web site at http://msi.nga.mil/NGAPortal/MSI.portal.

§ 72.05-1 [Amended]

21. In § 72.05-01(a), remove the text “with the exception of Volume V, which is published biennially,”.

§ 72.05-5 [Removed and Reserved]

22. Remove and reserve § 72.05-5.

23. Revise § 72.05-10 to read as follows:

§ 72.05-10 Free distribution.

The Light List, including weekly updates, may be downloaded through the Coast Guard Navigation Center's Web site (http://www.navcen.uscg.gov/?pageName=lightlists). A notice advising mariners of the availability of new editions of the Light Lists will be published in the Coast Guard Local Notice to Mariners and the National Geospatial-Intelligence Agency's Notice to Mariners.

PART 80—COLREGS DEMARCATION LINES

24. The authority citation for part 80 continues to read as follows:

Authority: 14 U.S.C. 2; 14 U.S.C. 633; 33 U.S.C. 151(a).

25. Revise § 80.155 to read as follows:

§ 80.155 Watch Hill, RI to Montauk Point, NY.

(a) A line drawn from 41°18′13.999″ N., 071°51′30.300″ W. (Watch Hill Light) to East Point on Fishers Island.

(b) A line drawn from Race Point to 41°14′36.509″ N., 072°02′49.676″ W. (Race Rock Light); thence to 41°12′2.900″ N., 072°06′24.700″ W. (Little Gull Island Light) thence to East Point on Plum Island.

(c) A line drawn from 41°10′16.704″ N., 072°12′21.684″ W. (Plum Island Harbor East Dolphin Light) to 41°10′17.262″ N., 072°12′23.796″ W. (Plum Island Harbor West Dolphin Light).

(d) A line drawn from 41°10′25.745″ N., 072°12′42.137′ W. (Plum Gut Light) to 41°09′48.393″ N., 072°13′25.014″ W. (Orient Point Light); thence to Orient Point.

(e) A line drawn from 41°06′35.100″ N., 072°18′21.400″ W. (Long Beach Bar Light) to Cornelius Point.

(f) A line drawn from 41°04′12.000″ N., 072°16′48.000″ W. (Coecles Harbor Entrance Light) to Sungic Point.

(g) A line drawn from Nicholl Point to 41°02′25.166″ N., 072°15′42.971″ W. (Cedar Island Light 3CI).

(h) A line drawn from 41°02′06.060″ N., 072°11′19.560″ W. (Threemile Harbor West Breakwater Light) to 41°02′05.580″ N., 072°11′15.777″ W. (Threemile Harbor East Breakwater Light).

(i) A line drawn from 41°04′44.210″ N., 071°56′20.308″ W. (Montauk West Jetty Light 2) to 41°04′46.095″ N., 071°56′14.168″ W. (Montauk East Jetty Light 1).

26. Revise § 80.160 to read as follows:

§ 80.160 Montauk Point, NY to Atlantic Beach, NY.

(a) A line drawn from the 40°50′17.952″ N., 072°28′29.010″ W. (Shinnecock Inlet Breakwater Light 2) to 40°50′23.490″ N., 072°28′40.122″ W. (Shinnecock Inlet Breakwater Light 1).

(b) A line drawn from 40°45′47.763″ N., 072°45′11.095″ W. (Moriches Inlet Breakwater Light 2) to 40°45′49.692″ N., 072°45′21.719″ W. (Moriches Inlet Breakwater Light 1).

(c) A line drawn from the westernmost point on Fire Island to the southernmost extremity of the spit of land at the western end of Oak Beach.

(d) A line drawn from 40°34′23.568″ N., 073°34′32.364″ W. (Jones Inlet Light) 322° true across Jones Inlet to the shoreline.

27. Revise § 80.165 to read as follows:

§ 80.165 New York Harbor.

A line drawn from 40°34′56.600″ N., 073°45′17.200″ W. (East Rockaway Inlet Breakwater Light) to 40°27′42.177″ N., 074°00′07.309″ W. (Sandy Hook Light).

28. Redesignate § 80.501 as § 80.502, and revise the newly redesignated section to read as follows:

§ 80.502 Tom's River, NJ to Cape May, NJ.

(a) A line drawn from the seaward tangent of Long Beach Island to the seaward tangent to Pullen Island across Beach Haven and Little Egg Inlets, thence across Brigantine Inlet to Brigantine Island.

(b) A line drawn from the seaward extremity of Absecon Inlet.

(c) A line drawn parallel with the general trend of highwater shoreline from the southernmost point of Longport at latitude 39°17.6′ N., longitude 74°33.1′ W. across Great Egg Harbor Inlet.

(d) A line drawn parallel with the general trend of highwater shoreline across Corson Inlet.

(e) A line formed by the centerline of the Townsend Inlet Highway Bridge.

(f) A line formed by the shoreline of Seven Mile Beach to 39°00′23.757″ N., 074°47′28.017″ W. (Hereford Inlet Light).

(g) A line drawn across the seaward extremity of Cape May Inlet.

29. Redesignate § 80.170 as § 80.501, and revise the newly redesignated section to read as follows:

§ 80.501 Sandy Hook, NJ to Tom's River, NJ.

(a) A line drawn across the seaward extremity of Shark River Inlet.

(b) A line drawn across the seaward extremity of Manasquan Inlet.

(c) A line drawn across the seaward extremity of Barnegat Inlet.

§ 80.748 [Amended]

30. In § 80.748(f), remove the text “shoreland” and add, in its place, the text “shoreline.”

PART 82—72 COLREGS: INTERPRETATIVE RULES

31. The authority citation for part 82 continues to read as follows:

Authority: 14 U.S.C. 2, 633; 33 U.S.C. 1602; E.O. 11964, 42 FR 4327, 3 CFR, 1977 Comp., p. 88; 49 CFR 1.46(n).

§ 82.5 [Amended]

32. In § 82.5, after the text “on the corners in accordance with 33 CFR”, remove the text “88.13” and add, in its place, the text “83.30(h) through (1)”.

PART 83—RULES

33. The authority citation for part 83 continues to read as follows:

Authority: Sec. 303, Pub. L. 108-293, 118 Stat. 1042 (33 U.S.C. 2071); Department of Homeland Security Delegation No. 0170.1.

34. Revise § 83.09(d) to read as follows:

§ 83.09 Narrow channels (Rule 9).

* * * * *

(d) A vessel must not cross a narrow channel or fairway if such crossing impedes the passage of a vessel which can safely navigate only within such channel or fairway. The latter vessel must use the signal prescribed in Rule 34(d) (§ 83.34(d)) if in doubt as to the intention of the crossing vessel.

§ 83.19 [Amended]

35. In § 83.19(d), after the text “close-quarters situation is developing”, remove the text “or” and add, in its place, the text “and/or”.

§ 83.24 [Amended]

36. In § 83.24(h), after the text “to indicate the presence of”, remove the text “the unlighted” and replace it with “such.”

§ 83.29 [Amended]

37. In § 83.29(a)(iii), after the text “lights, or shape prescribed in Rule 30”, remove the text ” for anchored vessels” and add, in its place, the text “for vessels at anchor”.

§ 83.34 [Amended]

38. In § 83.34(d), after the text “five short and rapid blasts on the whistle.”, remove the text “This” and add, in its place, the text “Such”.

PART 84—ANNEX I: POSITIONING AND TECHNICAL DETAILS OF LIGHTS AND SHAPES

39. The authority citation for part 84 continues to read as follows:

Authority: Sec. 303, Pub. L. 108-293, 118 Stat. 1042 (33 U.S.C. 2071); Department of Homeland Security Delegation No. 0170.1

§ 84.02 [Amended]

40. In § 84.02(f)(ii), remove the text “§ 84.03(d)” and add, in its place, the text “§ 84.03(c)”.

PART 90—INLAND RULES: INTERPRETATIVE RULES

41. The authority citation for part 90 continues to read as follows:

Authority: 33 U.S.C. 2071; 49 CFR 1.46(n)(14).

§ 90.5 [Amended]

42. In § 90.5, after the text “on the corners in accordance with 33 CFR”, remove the text “88.13” and add, in its place, the text “83.30(h) through (1)”.

PART 96—RULES FOR THE SAFE OPERATION OF VESSELS AND SAFETY MANAGEMENT SYSTEMS

43. The authority citation for part 96 is revised to read as follows:

Authority: 46 U.S.C. 3201 et. seq.; 46 U.S.C. 3103; 46 U.S.C. 3316; 33 U.S.C. 1231.

PART 100—SAFETY OF LIFE ON NAVIGABLE WATERS

44. The authority citation for part 100 continues to read as follows:

Authority: 33 U.S.C. 1233.

§ 100.1104 [Amended]

45. In § 100.1104(a), remove the text “To be placed on the mailing list for Local Notice to Mariners contact: Commander (dpw), Eleventh Coast Guard District, Coast Guard Island, Building 50-2, Alameda, CA 94501-5100” and add, in its place, the text “Local Notices to Mariners are available for viewing on the Coast Guard Navigation Center Web site at http://www.navcen.uscg.gov/?pageName=lnmDistrict&region=11”.

§ 100.1105 [Amended]

46. In § 100.1105(a), remove the text “To be placed on the Local Notice to Mariners mailing list contact: Commander (oan), Eleventh Coast Guard District, 400 Oceangate Boulevard, Long Beach, CA 90822-5399” and add, in its place, the text “Local Notices to Mariners are available for viewing on the Coast Guard Navigation Center Web site at http://www.navcen.uscg.gov/?pageName=lnmDistrict&region=11”.

PART 101—MARITIME SECURITY: GENERAL

47. The authority citation for part 101 continues to read as follows:

Authority: 33 U.S.C. 1226, 1231; 46 U.S.C. Chapter 701; 50 U.S.C. 191, 192; Executive Order 12656, 3 CFR 1988 Comp., p. 585; 33 CFR 1.05-1, 6.04-11, 6.14, 6.16, and 6.19; Department of Homeland Security Delegation No. 0170.1.

§ 101.514 [Amended]

48. In § 101.514, remove paragraph (e).

PART 110—ANCHORAGE REGULATIONS

49. The authority citation for part 110 continues to read as follows:

Authority: 33 U.S.C. 471, 1221 through 1236, 2071; 33 CFR 1.05-1; Department of Homeland Security Delegation No. 0170.1.

§ 110.215 [Amended]

50. In § 110.215(b)(3), remove the text “§ 204.195” and add, in its place, the text “§ 334.930”.

PART 117—DRAWBRIDGE OPERATION REGULATIONS

51. The authority citation for part 117 continues to read as follows:

Authority: 33 U.S.C. 499; 33 CFR 1.05-1; and Department of Homeland Security Delegation No. 0170.1.

§ 117.591 [Amended]

52. In 117.591(e), remove the text “Metropolitan District Commission” and add, in its place, the text “Massachusetts Department of Transportation”.

§ 117.605 [Amended]

53. Amend § 117.605 as follows:

a. Remove the text “Boston and Maine” and add, in its place, the text “Massachusetts Bay Transportation Authority (MBTA)”; and

b. Remove the text “Public Works” and add, in its place, the text “Transportation”.

§ 117.647 [Amended]

54. In § 117.647(a), remove the text “Canadian National Railway” and add, in its place, the text “Central Michigan Railroad”.

55. Revise § 117.855(c) to read as follows:

§ 117.855 Maumee River.

* * * * *

(c) The draws of the CSX Transportation railroad bridge, mile 1.07, Wheeling and Lake Erie Railroad Bridge, mile 1.80 and Norfolk Southern railroad bridge, mile 5.76, all at Toledo, shall operate as follows:

* * * * *

§ 117.1081 [Amended]

56. In 117.1081, after the text “via VHF-FM Channel 16 or telephone”, remove the text “(507) 895-6087” and add, in its place, the text “(612) 851-5784”.

PART 150—DEEPWATER PORTS: OPERATIONS

57. The authority citation for part 150 continues to read as follows:

Authority: 33 U.S.C. 1231, 1321(j)(1)(C), (j)(5), (j)(6), (m)(2); 33 U.S.C. 1509(a); E.O. 12777, sec. 2; E.O. 13286, sec. 34, 68 FR 10619; Department of Homeland Security Delegation No. 0170.1(70), (73), (75), (80).

§ 150.940 [Amended]

58. Amend § 150.940 as follows:

a. Remove paragraph (b);

b. Redesignate paragraphs (c) and (d) as paragraphs (b) and (c), respectively; and

c. In newly redesignated paragraph (b), remove the text “(c)(1)” wherever it appears, and add, in its place, the text “(b)(1)”;

d. In newly redesignated paragraph (b)(4)(iii), remove the text “(c)(4)(i)” and add, in its place, the text “(b)(4)(i)”;

e. In newly redesignated paragraph (b)(4)(iv), remove the text “(c)(2)” and add, in its place, the text “(b)(2)”;

f. In newly redesignated paragraph (c), remove the text “(d)(1)” wherever it appears, and add, in its place, the text “(c)(1)”;

g. In newly redesignated paragraph (c)(4)(ii), remove the text “(d)(4)(i)” and add, in its place, the text “(c)(4)(i)”; and

h. In newly redesignated paragraph (c)(4)(iv), remove the text “(d)(2)” and add, in its place, the text “(c)(2)”.

PART 151—VESSELS CARRYING OIL, NOXIOUS LIQUID SUBSTANCES, GARBAGE, MUNICIPAL OR COMMERCIAL WASTE, AND BALLAST WATER

59. The authority citation for part 151 continues to read as follows:

Authority: 33 U.S.C. 1321, 1902, 1903, 1908; 46 U.S.C. 6101; Pub. L. 104-227 (110 Stat. 3034); Pub. L. 108-293 (118 Stat. 1063), § 623; E.O. 12777, 3 CFR, 1991 Comp. p. 351; DHS Delegation No. 0170.1, sec. 2(77).

§ 151.1512 [Amended]

60. Amend § 151.1512 as follows:

a. In paragraph (a), remove the text “In order to” and add, in its place, the text “To”; and

b. In paragraph (b), after the text “BWMS to manage ballast water discharged to”, remove the text “U.S. waters” and add, in its place, the text “waters of the United States.”; and after the text “or employ an approved”, remove the text “alternative”.

§ 151.2035 [Amended]

61. In § 151.2035(a), remove the words “or ballast with water from a U.S. public water system” and insert in their place the words “or ballast exclusively with water from a U.S. public water system”.

§ 151.2036 [Amended]

62. In § 151.2036, in the first sentence, remove the words “that despite all efforts to meet the ballast water discharge standard requirements in § 151.2030 of this subpart, compliance is not possible” and add in its place the words “that, despite all efforts, compliance with the requirement under § 151.2025 is not possible”.

PART 155—OIL OR HAZARDOUS MATERIAL POLLUTION PREVENTION REGULATIONS FOR VESSELS

63. The authority citation for part 155 continues to read as follows:

Authority: 3 U.S.C. 301 through 303; 33 U.S.C. 1225, 1231, 1321(j), 1903(b), 2735; E.O. 12777, 56 FR 54757, 3 CFR, 1991 Comp., p. 351; Department of Homeland Security Delegation No. 0170.1. Section 155.480 also issued under section 4110(b) of Pub. L. 101.380.

64. In § 155.480, revise paragraphs (b)(2)(i) through (b)(2)(iii) to read as follows:

§ 155.480 Overfill devices.

* * * * *

(b) * * *

(2) * * *

(i) Meets the requirements of 46 CFR 39.2007(b)(2) through (b)(4), (d)(1) through (d)(4), and 46 CFR 39.2009(a)(1) ;

(ii) Is an installed automatic shutdown system that meets the requirements of 46 CFR 39.2009(a)(2); or

(iii) Is an installed high-level indicating device that meets the requirements of 46 CFR 39.2003(b)(1).

* * * * *

PART 156—OIL AND HAZARDOUS MATERIAL TRANSFER OPERATIONS

65. The authority citation for part 156 continues to read as follows:

Authority: 33 U.S.C. 1225, 1231, 1321(j); 46 U.S.C. 3703, 3703a, 3715; E.O. 11735, 3 CFR 1971-1975 Comp., p. 793; Department of Homeland Security Delegation No. 0170.1.

§ 156.330 [Amended]

66. In § 156.330(b), before the text “Ship to Ship Transfer Guide,”, remove the text “Oil”.

PART 161—VESSEL TRAFFIC MANAGEMENT

67. The authority citation for part 161 continues to read as follows:

Authority: 33 U.S.C. 1223, 1231; 46 U.S.C. 70114, 70119; Pub. L. 107-295, 116 Stat. 2064; Department of Homeland Security Delegation No. 0170.1.

§ 161.18 [Amended]

68. Amend Table 161.18(a) as follows:

a. In the description for “C-CHARLIE-Position”, after the text “E (east) or W (west); or”, remove the period symbol; and

b. In the description for “R-ROMEO-Description of pollution or dangerous goods lost”, after the text “type of pollution (oil, chemicals, etc”, add a period symbol.

§ 161.60 [Amended]

69. In § 161.60(c), remove the text “61°02′06″ and add, in its place, the text “61°02′06″ N.,”.

PART 162—INLAND WATERWAYS NAVIGATION REGULATIONS

70. The authority citation for part 162 continues to read as follows:

Authority: 33 U.S.C. 1231; Department of Homeland Security Delegation No. 0170.1.

§ 162.65 [Amended]

71. Amend § 162.65 as follows:

a. In paragraph (b)(2)(iv), after the text “Lights shall be displayed in accordance with provisions of the Navigation Rules”, remove the text “, International-Inland, Commandant Instruction M16672.2 (series)” and add, in its place, the text “(33 CFR Subchapter E)”; and

b. In paragraph (b)(6), after the text “proper signals and pass in accordance with the Navigation Rules”, remove the text “, International-Inland, Commandant Instruction M16672.2 (series)” and add, in its place, the text “(33 CFR Subchapter E)”.

72. In § 162.75, revise paragraphs (b)(3)(iii) and (b)(7) to read as follows:

§ 162.75 All waterways tributary to the Gulf of Mexico (except the Mississippi River, its tributaries, South and Southwest Passes and Atchafalaya River) from St. Marks, Fla., to the Rio Grande.

* * * * *

(b) * * *

(3) * * *

(iii) Lights shall be displayed in accordance with provisions of the Inland Navigation Rules (33 CFR Subchapter E).

* * * * *

(7) Meeting and passing: Passing vessels shall give the proper signals and pass in accordance with the Inland Navigation Rules (33 CFR Subchapter E), where applicable. At certain intersections where strong currents may be encountered, sailing directions may be issued through navigation bulletins or signs posted on each side of the intersections.

* * * * *

§ 162.90 [Amended]

73. In § 162.90(b)(6), after the text “in accordance with”, remove the text “the Inland Rules and the Pilot Rules for Inland Waters”, and add, in its place, the text “the Inland Navigation Rules (33 CFR Subchapter E)”.

PART 164—NAVIGATION SAFETY REGULATIONS

74. The authority citation for part 164 continues to read as follows:

Authority: 33 U.S.C. 1222(5), 1223, 1231; 46 U.S.C. 2103, 3703; E.O. 12234, 45 FR 58801, 3 CFR, 1980 Comp., p. 277; Department of Homeland Security Delegation No. 0170.1. Sec. 164.13 also issued under 46 U.S.C. 8502. Sec. 164.46 also issued under 46 U.S.C. 70114 and Sec. 102 of Pub. L. 107-295. Sec. 164.61 also issued under 46 U.S.C. 6101.

§ 164.03 [Amended]

75. In § 164.03, remove paragraph (e)(3), and redesignate paragraphs (e)(4) through (e)(9) as paragraphs (e)(3) through (e)(8), respectively.

§ 164.33 [Amended]

76. In § 164.33(c), remove the text “Imagery and Mapping” and add, in its place, the text “Geospatial-Intelligence”.

§ 164.72 [Amended]

77. In § 164.72(b)(2)(ii)(B), remove the text “Imagery and Mapping” and add, in its place, the text “Geospatial-Intelligence”.

PART 165—REGULATED NAVIGATION AREAS AND LIMITED ACCESS AREAS

78. The authority citation for part 165 continues to read as follows:

Authority: 33 U.S.C. 1231; 50 U.S.C. 191; 33 CFR 1.05-1, 6.04-1, 6.04-6, and 160.5; Department of Homeland Security Delegation No. 0170.1.

§ 165.T01-0174 [Amended]

79. In § 165.T01-0174(c)(9), remove the text “Rules of the Road (33 CFR part 84—Subchapter E, inland navigational rules)”, and add, in its place, the text “Inland Navigation Rules (33 CFR subchapter E)”.

§ 165.T01-0214 [Amended]

80. In § 165.T01-0214(b)(6), remove the text “Rules of the Road (33 CFR chapter I, subchapter E)” and add, in its place, the text “Inland Navigation Rules (33 CFR subchapter E)”.

§ 165.T01-0215 [Amended]

81. In § 165.T01-0215(b)(5), remove the text “Rules of the Road, as codified in 33 CFR Subchapter E, Inland Navigational Rules” and add, in its place, the text “Inland Navigation Rules (33 CFR subchapter E)”.

§ 165.T01-0329 [Amended]

82. In § 165.T01-0329(b)(7), remove the text “Rules of the Road (33 CFR part 84—Subchapter E, Inland Navigational Rules)” and add, in its place, the text “Inland Navigation Rules (33 CFR subchapter E)”.

§ 165.T01-0554 [Amended]

83. In § 165.T01-0554(b)(5), remove the text “Rules of the Road, as codified in 33 CFR subchapter E, Inland Navigational Rules” and add, in its place, the text “Inland Navigation Rules (33 CFR subchapter E)”.

§ 165.T01-0824 [Amended]

84. In § 165.T01-0824(b)(7), remove the text “Rules of the Road (33 CFR part 84—Subchapter E, inland navigational rules)” and add, in its place, the text “Inland Navigation Rules (33 CFR subchapter E)”.

§ 165.T01-0876 [Amended]

85. In § 165.T01-0876(c)(7), remove the text “Rules of the Road (33 CFR part 84—Subchapter E, inland navigational rules)” and add, in its place, the text “Inland Navigation Rules (33 CFR subchapter E)”.

§ 165.T01-1059 [Amended]

86. § 165.T01-1059(c)(1), remove the text “Navigation Rules” and add, in its place, the text “Inland Navigation Rules (33 CFR subchapter E).”

§ 165.T01-1063 [Amended]

87. In § 165.T01-1063(b)(5), remove the text “Rules of the Road, as codified in 33 CFR subchapter E, Inland Navigational Rules” and add, in its place, the text “Inland Navigation Rules (33 CFR subchapter E)”.

88. In § 165.100, revise paragraphs (d)(2) and (d)(5)(iv)(A)(5) to read as follows:

§ 165.100 Regulated Navigation Area: Navigable waters within the First Coast Guard District.

* * * * *

(d) * * *

(2) Enhanced communications. Each vessel engaged in towing a tank barge must communicate by radio on marine band or Very High Frequency (VHF) channel 13 or 16, and issue security calls on marine band or VHF channel 13 or 16, upon approach to the following places:

(i) Execution Rocks Light (USCG Light List No. [LLNR] 21440).

(ii) Matinecock Point Shoal Lighted Gong Buoy 21 (LLNR 21420).

(iii) 32A Buoy (LLNR 21380).

(iv) Cable and Anchor Reef Lighted Bell Buoy 28C (LLNR 21330).

(v) Stratford Shoal (Middle Ground) Light (LLNR 21260).

(vi) Old Field Point Light (LLNR 21275).

(vii) Approach to Stratford Point from the south (NOAA Chart 12370).

(viii) Falkner Island Light (LLNR 21170).

(ix) TE Buoy (LLNR 21160).

(x) PI Buoy (LLNR 21080).

(xi) Race Rock Light (LLNR 19815).

(xii) Valiant Rock Lighted Whistle Buoy 11 (LLNR 19825).

(xiii) Approach to Point Judith in vicinity of Block Island ferry route.

(xiv) Buzzards Bay Entrance Light (LLNR 630).

(xv) Buzzards Bay Midchannel Lighted Buoy BB (LLNR 16055)

(xvi) Cleveland East Ledge Light (LLNR 016080).

(xvii) Hog Island Channel Lighted Buoys 1 (LLNR 16130) and 2 (LLNR 16135).

(xviii) Approach to the Bourne Bridge.

(xix) Approach to the Sagamore Bridge.

(xx) Approach to the eastern entrance of Cape Cod Canal.

* * * * *

(5) * * *

(iv) * * *

(A) * * *

(5) Before meeting, crossing, or overtaking any other VMRS user in the area, communicate on the designated vessel bridge-to-bridge radiotelephone frequency, intended navigation movements, and any other information necessary in order to make safe passing arrangements. This requirement does not relieve a vessel of any duty prescribed by the Navigation Rules (COLREGS and their associated Annexes and Inland Navigation Rules (33 CFR subchapter E)).

* * * * *

§ 165.122 [Amended]

89. Amend § 165.122 as follows:

a. In paragraph (b)(2)(iv), remove the text “Point”; and

b. In paragraph (b)(6), remove the text “set forth in 33 CFR part 83” and add, in its place, the text “33 CFR subchapter E).”

§ 165.153 [Amended]

90. In § 165.153(d)(9), remove the text “navigation rules” and add, in its place, the text “Navigation Rules (COLREGS and their associated Annexes and Inland Navigation Rules (33 CFR subchapter E)).”

§ 165.156 [Amended]

91. In § 165.156(a), remove the text “Silver Point breakwater buoy” and add, in its place, the text “East Rockaway Inlet Breakwater Light”.

§ 165.160 [Amended]

92. In Table 1 to § 165.160, in the description for “2.7 Arthur Kill, Elizabeth, NJ”, after the text “Arthur Kill Channel” add the text “Lighted”.

§ 165.163 [Amended]

93. In § 165.163(a)(5), after the text “to the COLREGS Demarcation line”, remove the text “at” and add, in its place, the text “in the vicinity of”; and after the text “Ambrose Channel”, remove “Entrance Lighted Bell Buoy 2” and add, in its place, “Lighted Bell Buoy 6”.

§ 165.166 [Amended]

94. In § 165.166(a), after the text “to Liberty Island Lighted Gong Buoy”, remove the number “29” and add, in its place, the number “33”.

§ 165.170 [Removed]

95. Remove § 165.170.

96. In § 165.173, revise the Table to § 165.173 to read as follows:

§ 165.173 Safety Zones for annually recurring marine events held in Coast Guard Southeastern New England Captain of the Port Zone.

Table to § 165.173
1.0 365 DAY JANUARY-DECEMBER
1.1 Provincetown Fireworks | • Event Type: Fireworks Display.
| • Date: Enforced on any day during the duration of the event as specified by a Notice of Enforcement published in the Federal Register.
| • Time: Approximately 5:00 p.m. to 11:59 p.m.
| • Location: From a barge in the vicinity of the Provincetown Harbor, Provincetown, MA.
| • Position: Within 500 yards of 41°28′44″ N., 070°10′83″ W. (NAD 83).
| • Safety Zone Dimension: Approximately 300 yard radius circle around the fireworks barge.
1.2 Providence Fireworks | • Event Type: Fireworks Display.
| • Date: Enforced on any day during the duration of the event as specified by a Notice of Enforcement published in the Federal Register.
| • Time: Approximately 5:00 p.m. to 11:59 p.m.
| • Location: From a barge in the vicinity of the Hurricane Barrier in the Providence River, Providence, RI.
| • Position: Within 500 yards of 41°48′50″ N., 071°23′43″ W. (NAD 83).
| • Safety Zone Dimension: Approximately 300 yard radius circle around the fireworks barge.
1.3 Fall River Fireworks | • Event Type: Fireworks Display.
| • Date: Enforced on any day during the duration of the event as specified by a Notice of Enforcement published in the Federal Register.
| • Time: Approximately 5:00 p.m. to 11:59 p.m.
| • Location: From a barge in the vicinity of Battleship Cove, Fall River, MA.
| • Position: Within 500 yards of 41°42′37″ N., 071°09′53″ W. (NAD 83).
| • Safety Zone Dimension: Approximately 200 yard radius circle around the fireworks barge.
5.0 MAY
5.1 RI National Guard Air Show | • Event Type: Air Show.
| • Date: One weekend (Friday, Saturday, and Sunday) in May, June, or July, as announced in the local Notice to Mariners.
| • Time: Approximately 9:00 a.m. to 7:00 p.m.
| • Location: (1) All waters over the West Passage of Narragansett Bay, in the vicinity of the Quonset State Airport, North Kingston, RI which are within a 4000-yard radius arc extending from position 41°35′44″ N., 071°24′14″ W. (NAD 83); and (2) All waters over the West Passage of Narragansett Bay, in the vicinity of Narragansett Pier, Narragansett, RI, which are within a 2000-yard radius arc extending from position 41°26′17″ N., 071°27′02″ W. (NAD 83) (Friday only).
| • Safety Zone Dimension: Approximately 1000 yards long by 1000 yards wide.
6.0 JUNE
6.1 Oak Bluffs Summer Solstice | • Event Type: Fireworks Display.
| • Date: One night on the 3rd or 4th weekend of June, as announced in the Local Notice to Mariners.
| • Time: Approximately 8:00 p.m. to 11:59 p.m.
| • Location: From a barge in the vicinity of Town Beach, Oak Bluffs, MA.
| • Position: Within 500 yards of 41°27′19″ N., 070°33′08″ W. (NAD 83).
| • Safety Zone Dimension: Approximately 300 yard radius circle around the fireworks barge.
6.2 Swim Buzzards Bay | • Event Type: Swim Event.
| • Date: One Saturday or Sunday in June, July, or August, as announced in the Local Notice to Mariners.
| • Time: Start times will vary from 6:00 a.m. to 11:59 a.m., and last approximately two hours until the last swimmer is ashore. Start time will be announced in advance in the Local Notice to Mariners.
| • Location: The regulated area includes all waters in the vicinity of the Outer New Bedford Harbor, within 500 yards along a centerline with an approximate start point of 41°36′35″ N., 070°54′18″ W. (NAD 83) and an approximate end point of 41°37′26″ N., 070°53′48″ W. (NAD 83) at Davy's Locker Restaurant in New Bedford, MA, to Fort Phoenix Beach in Fairhaven, MA.
| • Safety Zone Dimension: 500 yards on either side of the centerline described above.
7.0 JULY
7.1 Marion 4th of July Fireworks | • Event Type: Fireworks Display.
| • Date: One night between July 1st and July 10th, as announced in the Local Notice to Mariners.
| • Time: Approximately 8:00 p.m. to 11:59 p.m.
| • Location: From a barge in the vicinity of Outer Sipican Harbor, Marion, MA.
| • Position: Within 500 yards of 41°42′17″ N., 070°45′08″ W. (NAD 83).
| • Safety Zone Dimension: Approximately 300 yard radius circle around the fireworks barge.
7.2 Oyster Harbors July 4th Festival | • Event Type: Fireworks Display.
| • Date: One night between July 1st and July 10th, as announced in the Local Notice to Mariners.
| • Time: Approximately 8:00 p.m. to 11:59 p.m.
| • Location: From a barge in the vicinity of Tim's Cove, North Bay, Osterville, MA. • Position: Within 500 yards of 41°37′29″ N., 070°25′12″ W. (NAD 83).
| • Safety Zone Dimension: Approximately 200 yard radius circle around the fireworks barge.
7.3 North Kingstown Fireworks Display | • Event Type: Fireworks Display.
| • Date: One night between July 1st and July 10th, as announced in the Local Notice to Mariners.
| • Time: Approximately 8:00 p.m. to 11:59 p.m.
| • Location: From a barge in the vicinity of Town Beach, North Kingston, RI.
| • Position: Within 500 yards of 41°33′59″ N., 071°26′23″ W. (NAD 83).
| • Safety Zone Dimension: Approximately 200 yard radius circle around the fireworks barge.
7.4 Falmouth Fireworks | • Event Type: Fireworks Display.
| • Date: One night between July 1st and July 10th, as announced in the Local Notice to Mariners.
| • Time: Approximately 8:00 p.m. to 11:59 p.m.
| • Location: From a barge in the vicinity of Falmouth Beach, Falmouth, MA.
| • Position: Within 500 yards of 41°32′27″ N., 070°35′26″ W. (NAD 83).
| • Safety Zone Dimension: Approximately 300 yard radius circle around the fireworks barge.
7.5 Town of Nantucket Fireworks | • Event Type: Fireworks Display.
| • Date: One night between July 1st and July 10th, as announced in the Local Notice to Mariners.
| • Time: Approximately 8:00 p.m. to 11:59 p.m.
| • Location: From a barge in the vicinity of Jetties Beach, Nantucket Sound, MA.
| • Position: Within 500 yards of 41°19′00″ N., 070°06′30″ W. (NAD 83).
| • Safety Zone Dimension: Approximately 200 yard radius circle around the fireworks barge.
7.6 City of Newport 4th of July Fireworks | • Event Type: Fireworks Display.
| • Date: One night between July 1st and July 10th, as announced in the Local Notice to Mariners.
| • Time: Approximately 8:00 p.m. to 11:59 p.m.
| • Location: From the shore in the vicinity of Fort Adams, Newport, RI.
| • Position: Within 500 yards of 41°28′49″ N., 071°20′12″ W. (NAD 83).
| • Safety Zone Dimension: Approximately 350 yard radius circle around the launch site.
7.7 Town of Barnstable/Hyannis July 4th Fireworks | • Event Type: Fireworks Display.
| • Date: One night between July 1st and July 10th, as announced in the Local Notice to Mariners.
| • Time: Approximately 8:00 p.m. to 11:59 p.m.
| • Location: From a barge in the vicinity of Lewis Bay, Hyannis, MA.
| • Position: Within 500 yards of 41°38′20″ N., 070°15′08″ W. (NAD 83).
| • Safety Zone Dimension: Approximately 350 yard radius circle around the fireworks barge.
7.8 Edgartown 4th of July Fireworks Celebration | • Event Type: Fireworks Display.
| • Date: One night between July 1st and July 10th, as announced in the Local Notice to Mariners.
| • Time: Approximately 8:00 p.m. to 11:59 p.m.
| • Location: From a barge in the vicinity of Edgartown Outer Harbor, Edgartown, MA.
| • Position: Within 500 yards of 41°22′39″ N., 070°30′14″ W. (NAD 83).
| • Safety Zone Dimension: Approximately 300 yard radius circle around the fireworks barge.
7.9 City of New Bedford Fireworks Display | • Event Type: Fireworks Display.
| • Date: One night between July 1st and July 10th, as announced in the Local Notice to Mariners.
| • Time: Approximately 8:00 p.m. to 11:59 p.m.
| • Location: From a barge in the vicinity of New Bedford Harbor, New Bedford, MA.
| • Position: Within 500 yards of 41°37′55″ N., 070°54′44″ W. (NAD 83).
| • Safety Zone Dimension: Approximately 250 yard radius circle around the fireworks barge.
7.10 Onset Fireworks | • Event Type: Fireworks Display.
| • Date: One night between July 1st and July 10th, as announced in the Local Notice to Mariners.
| • Time: Approximately 8:00 p.m. to 11:59 p.m.
| • Location: On the shore, in the vicinity of Shellpoint Beach, Onset, MA.
| • Position: Within 500 yards of 41°44′13″ N., 070°39′51″ W. (NAD 83).
| • Safety Zone Dimension: Approximately 300 yard radius circle around the fireworks launch site.
7.11 Bristol 4th of July Fireworks | • Event Type: Fireworks Display.
| • Date: One night between July 1st and July 10th, as announced in the Local Notice to Mariners.
| • Time: Approximately 8:00 p.m. to 11:59 p.m.
| • Location: In the vicinity of Northern portion of the Bristol Harbor, Bristol, RI, on the section of Poppasquash Rd separating the harbor and Mill Pond.
| • Position: Within 500 yards of 41°40′53.4″ N., 071°17′00″ W. (NAD 83).
| • Safety Zone Dimension: Approximately 300 yard radius circle around the fireworks launch site.
7.12 [Reserved] |
7.13 Save the Bay Swim | • Event Type: Swim Event.
| • Date: One Saturday or Sunday in July or August, as announced in the Local Notice to Mariners.
| • Time: Start time will vary from 6:00 a.m. to 11:59 a.m. and last for approximately four hours, until the last swimmer is ashore. Start time will be announced in advance in the Local Notice to Mariners.
| • Location: The regulated area includes all waters in the vicinity of the Newport/Pell Bridge, East Passage of Narragansett Bay, along a centerline with an approximate start point of 41°30′24″ N., 071°19′49″ W. (NAD 83) and an approximate end point of 41°30′39″ N., 071°21′50″ W. (NAD 83), i.e., a line drawn from the Officers' Club, Coaster's Harbor Island, Naval Station Newport, to Potter Cove, Jamestown.
| • Safety Zone Dimension: 500 yards on either side of the centerline described above.
8.0 AUGUST
8.1 Boston Pops Nantucket | • Event Type: Fireworks Display.
| • Date: One night in August as announced in the Local Notice to Mariners.
| • Time: Approximately 8:00 p.m. to 11:59 p.m.
| • Location: On the shore, in the vicinity of Jetties Beach, Nantucket, MA.
| • Position: Within 500 yards of 41°17′43″ N., 070°06′10″ W. (NAD 83).
| • Safety Zone Dimension: Approximately 400 yard radius circle around the fireworks barge.
8.2 Oak Bluffs Fireworks | • Event Type: Fireworks Display.
| • Date: One night in August.
| • Time: Approximately 8:00 p.m. to 11:59 p.m.
| • Location: From a barge in the vicinity of Oak Bluffs Harbor, Oak Bluffs, MA.
| • Position: Within 500 yards of 41°27′27″ N., 070°33′17″ W. (NAD 83).
| • Safety Zone Dimension: Approximately 350 yard radius circle around the fireworks barge.
8.3 Newport Salute to Summer Fireworks | • Event Type: Fireworks Display.
| • Date: One night during the last two weekends in August or 1st weekend in September, as announced in the Local Notice to Mariners.
| • Time: Approximately 8:00 p.m. to 11:59 p.m.
| • Location: From a barge in the vicinity of Naval Station Newport, Newport, RI.
| • Position: Within 500 yards of 41°30′15″ N., 071°19′50″ W. (NAD 83).
| • Safety Zone Dimension: Approximately 400 yard radius circle around the fireworks barge.
9.0 SEPTEMBER
9.1 Provincetown Harbor Swim for Life | • Event Type: Swim Event.
| • Date: On a day in September as announced in the Local Notice to Mariners.
| • Time: Times will vary from 10:00 a.m. until the last swimmer is ashore, no later than 2:00 p.m.
| • Location: The regulated area includes all waters in the vicinity of the Provincetown Harbor along a centerline between the start point, the Long Point Lighthouse. approximate position 42°01′59″ N., 070°10′07″ W. (NAD 83), and the end point, the Boatslip Resort, Provincetown, MA, approximate position 42°02′48″ N., 070°11′24″ W. (NAD 83).
| • Safety Zone Dimension: 250 yards on either side of the centerline described above.
9.2 Spirit of Somerset Celebration | • Event Type: Fireworks Display.
| • Date: One night in September, as announced in the Local Notice to Mariners.
| • Time: Approximately 8:00 p.m. to 11:59 p.m.
| • Location: On the shore, in the vicinity of Mallard Point, Somerset, MA.
| • Position: Within 500 yards of 41°46′18″ N., 071°07′14″ W. (NAD 83).
| • Safety Zone Dimension: Approximately 200 yard radius circle around the fireworks launch site.
10.0 OCTOBER
10.1 Yarmouth Seaside Festival Fireworks | • Event Type: Fireworks Display.
| • Date: One night in October, as announced in the Local Notice to Mariners.
| • Time: Approximately 7:00 p.m. to 11:59 p.m.
| • Location: On the shore, in the vicinity of Seagull Beach, West Yarmouth, MA.
| • Position: Within 500 yards of 41°38′06″ N., 070°13′13″ W. (NAD 83).
| • Safety Zone Dimension: Approximately 300 yard radius circle around the fireworks launch site.

§ 165.511 [Amended]

97. In § 165.511(c)(1), after the text “accordance with the Navigation Rules”, remove the text “as seen in 33 CFR chapter I, subchapters D and E” and add, in its place, the text “(COLREGS and their associated Annexes and Inland Navigation Rules (33 CFR subchapter E))”.

§ 165.514 [Amended]

98. In § 165.514(a), after the text “from Bogue Sound—New River” and before the text “58 (LLNR 39210) at”, remove the text “Daybeacon” and add, in its place, the text “Light”.

§ 165.518 [Amended]

99. In § 165.518(c)(4), remove the text “in 33 CFR chapter I, subparts D and E” and add, in its place, the text “(COLREGS and their associated Annexes and Inland Navigation Rules (33 CFR subchapter E)).”

§ 165.708 [Amended]

100. In § 165.708(a)(1), after the text “Charleston Harbor Entrance”, remove the text “Buoy “C” (LLNR 1885, position 32-39.6N, 079-40.9W)” and add, in its place, the text “, approximate position (32°37.1′ N., 079°35.5′ W.)”.

§ 165.753 [Amended]

101. Amend § 165.753 as follows:

a. In paragraph (a), after the text “Egmont Channel, Gulf of Mexico from Tampa Bay”, remove the text “to the seabuoy, Tampa Lighted Whistle Buoy T, LLNR 18465” and add, in its place, the text “Tampa Bay Entrance, approximate position (27°35.3′ N., 079°35.5′ W.)”; and

b. In paragraph (d), after the text “section shall supersede”, remove the text “either the International Regulations for Preventing Collisions at Sea, 1972 (72 COLREGS) or the Inland Navigation Rules” and add, in its place, the text “the Navigational Rules (COLREGS and their associated Annexes and Inland Navigation Rules (33 CFR subchapter E))”.

§ 165.765 [Amended]

102. In § 165.765(b), remove the text “33 U.S.C. 2001 et seq” and add, in its place, the text “(33 CFR subchapter E)”.

§ 165.813 [Amended]

103. Amend § 165.813 as follows:

a. In paragraph (a) after the text “Galveston Bay Approach Lighted Buoy “GB”, at approximate position”, remove the text “29°21′18″ N., 94°37′36″ W.”, and add, in its place, the text “29°14′44″ N., 094°32′41″ W.”; and .

b. In paragraph (b)(1)(ii), after the text “Where the Houston Ship Channel narrows to 400 feet or less between Houston Ship Channel Entrance Lighted Bell Buoy “18”, light list”, remove the text “no. 34385 at approximately 29°21′06″ N., 94°47′00″ W.” and add, in its place, the text “nos. 23900/36055 at approximately 29°21′04″ N., 094°47′00″ W.”

104. In § 165.814, revise paragraphs (a)(1) through (a)(4) to read as follows:

§ 165.814 Security Zones; Captain of the Port Houston-Galveston Zone.

(a) * * *

(1) Houston, TX. The Houston Ship Channel and all associated turning basins, bounded by a line drawn between geographic positions 29°45′14″ N., 095°05′47″ W. to 29°45′04″ N., 095°05′33″ W. west to the T & N Rail Road Swing Bridge at the entrance to Buffalo Bayou, including all waters adjacent to the ship channel from shoreline to shoreline and the first 200 yards of connecting waterways.

(2) Morgan's Point, TX. The Barbours Cut Ship Channel and Turning Basin containing all waters west of a line drawn between Barbours Cut Junction Light “BC” 29°41′12″ N., 094°59′10″ W. (LLNR-24750), and Houston Ship Channel Light 91, 29°40′58″ N., 094°58′59″ W. (LLNR-24595) (NAD 1983).

(3) Bayport, TX. The Port of Bayport, Bayport Ship Channel and Bayport Turning Basin containing all waters south of latitude 29°36′45″ N. and west of position 29°36′45″ N., 094°59′31″ W. (NAD 1983).

(4) Texas City, TX. The Port of Texas City Channel, Turning Basin and Industrial Canal containing all waters bounded by the area south and west of a line drawn from Texas City Channel Light 19 (LLNR 26160) through Texas City Cut B Inner Range Front Light (LLNR 26110) and terminating on land in position 29°23′16″ N., 094°53′15″ W. (NAD 1983).

* * * * *

§ 165.1152 [Amended]

105. In § 165.1152(e)(5), after the text “Los Angeles Main Channel Entrance Light”, remove the number “2” and add, in its place, the number “8”.

§ 165.1156 [Amended]

106. In § 165.1156(b)(3), after the text “the Navigation Rules”, remove the text “as defined in 33 CFR chapter I, subchapters D and E” and add, in its place, the text “(COLREGS and their associated Annexes and Inland Navigation Rules (33 CFR subchapter E))”.

§ 165.1181 [Amended]

107. In § 165.1181(d)(3), after the text “Inland Navigation Rules (INRs) (33” remove the text “U.S.C. 2009” and add, in its place, the text “CFR subchapter E”.

§ 165.1182 [Amended]

108. In § 165.1182(a)(1), after the text “between San Francisco Main Ship Channel”, remove the text “buoys 7 and 8” and add, in its place, the text “Lighted Bell Buoy 7 and San Francisco Main Ship Channel Lighted Whistle Buoy 8”.

§ 165.1183 [Amended]

109. In § 165.1183(b)(1), after the text “between San Francisco Main Ship Channel”, remove the text “buoys 7 and 8” and add, in its place, the text “Lighted Bell Buoy 7 and San Francisco Main Ship Channel Lighted Whistle Buoy 8”.

§ 165.T13-239 [Amended]

110. In § 165.T13-239(a)(3), after the text “Inland Navigation Rules published in 33 CFR”, remove the text “part 83” and add, in its place, the text “subchapter E”.

§ 165.1321 [Amended]

111. In § 165.1321(c)(1), after the text “northwesterly along the shoreline of the Blair Waterway” remove the text “to the Commencement Bay Directional Light (light list number 17159)” and add, in its place, the text “approximate position 47°16′49″ N., 122° 24′52″ W.”.

112. Amend § 165.1407 to revise paragraphs (a)(1), (a)(3), and (a)(4)(i) to read as follows:

§ 165.1407 Security Zones; Oahu, HI.

(a) * * *

(1) Honolulu Harbor. All waters of Honolulu Harbor and Honolulu entrance channel commencing at a line between Honolulu Harbor Entrance Channel Lighted Buoys 1 and 2, to a line between Kalihi Channel Lights 14 and 15 west of Sand Island Bridge.

* * * * *

(3) Kalihi Channel and Keehi Lagoon, Oahu. All waters of Kalihi Channel and Keehi Lagoon beginning at Kalihi Channel Entrance Lighted Buoy 1 and continuing along the general trend of Kalihi Channel to Light 13, thence continuing on a bearing of 332.5°T to shore, thence east and south along the general trend of the shoreline to Light 15, thence southeast to Light 14, thence southeast along the general trend of the shoreline of Sand Island, to the southwest tip of Sand Island at 21°18.0′ N., 157°53.05′ W., thence southwest on a bearing of 233°T to Kalihi Channel Entrance Lighted Buoy 1.

(4) Honolulu International Airport—(i) Honolulu International Airport, North Section. All waters surrounding Honolulu International Airport from 21°18.25′ N., 157°55.58′ W., thence south to 21°18.0′ N., 157°55.58′ W., thence east to the western edge of Kalihi Channel, thence north along the western edge of the channel to Light 13, thence northwest at a bearing of 332.5°T to shore.

* * * * *

113. Revise § 165.1702(a) to read as follows:

§ 165.1702 Gastineau Channel, Juneau, Alaska—safety zone.

(a) The waters within the following boundaries are a safety zone: A line beginning at position 58°17.8′ N., 134°24.9′ W., in the direction of 140° True to Rock Dump Lighted Buoy 2A (LLNR 23685) at position 58°17.1′ N., 134°23.8′ W.; thence in the direction of 003° true to a point at position 58°17.4′ N., 134°23. 8′ W., on the north shore of Gastineau Channel; thence northwesterly along the north shore of Gastineau Channel to the point of origin.

* * * * *

PART 177—CORRECTION OF ESPECIALLY HAZARDOUS CONDITIONS

114. The authority citation for part 177 is revised to read as follows:

Authority: 46 U.S.C. 4302, 4308, 4311; Pub. L. 103-206, 107 Stat. 2439.

* * * * *

PART 183—BOATS AND ASSOCIATED EQUIPMENT

115. The authority citation for part 183 continues to read as follows:

Authority: 46 U.S.C. 4302; Pub. L 103-206, 107 Stat. 2439; 49 CFR 1.46.

§ 183.803 [Amended]

116. In § 183.803, in the definition of “Navigation Lights”, remove the text “(Commandant Instruction 16672.2 series)” and add, in its place, the text “(COLREGS and their associated Annexes and Inland Navigation Rules (33 CFR subchapter E)”.

Dated: June 30, 2015.
Katia Kroutil,
Chief, Office of Regulations and Administrative Law, U.S. Coast Guard.

[FR Doc. 2015-16520 Filed 7-24-15; 8:45 am]

BILLING CODE 9110-04-P